NUCLEAR REGULATORY COMMISSION

[Docket Nos. 72-9 and 72-20]

Department of Energy; Fort St. Vrain and Three Mile Island, Unit 2, Independent Spent Fuel Storage Installations; Notice of Docketing of Materials Licenses SNM-2504 and SNM-2508 Amendment Applications

By letter dated August 30, 2000, the U.S. Department of Energy (DOE) submitted an application to the Nuclear Regulatory Commission (NRC or the Commission), in accordance with 10 CFR Part 72, requesting the amendment of the Fort St. Vrain (FSV) and Three Mile Island, Unit 2 (TMI-2) independent spent fuel storage installation (ISFSI) licenses, SNM-2504 and SNM-2508, respectively. The FSV ISFSI is located at Weld County, Colorado, and the TMI-2 ISFSI is located at Idaho Falls, Idaho. In accordance with the requirements of 10 CFR 73.21(h), DOE is seeking Commission approval to use a new plan for safeguards information protection for both ISFSIs. The requested changes do not appear to affect the design, operation, maintenance, or surveillance of the ISFSIs.

These applications were docketed under 10 CFR Part 72; the ISFSI Docket No. for FSV is 72-9 and the Docket No. for TMI-2 is 72-20 and will remain the same for these actions. The amendment of both ISFSI licenses are subject to the Commission's approval and may take place under separate actions.

The Director, Office of Nuclear Material Safety and Safeguards, or his designee, will determine if the amendments present a genuine issue as to whether public health and safety will be significantly affected and may issue either a notice of hearing or a notice of proposed action and opportunity for hearing in accordance with 10 CFR 72.46(b)(1) or take immediate action on the amendments in accordance with 10 CFR 72.46(b)(2).

For further details with respect to this application, see the application dated August 30, 2000, which is available for public inspection at the Commission's Public Document Room, One White Flint North Building, 11555 Rockville Pike, Rockville, MD, or from the publicly available records component of NRC's document system (ADAMS). ADAMS is accessible from the NRC Web site at http://www.nrc.gov/NRC/ADAMS/index.html (the Public Electronic Reading Room).

Dated at Rockville, Maryland, this 30th day of November 2000.
For the Nuclear Regulatory Commission.
E. William Brach,
Director, Spent Fuel Project Office, Office of Nuclear Material Safety and Safeguards.

[FR Doc. 00-31293 Filed 12-7-00; 8:45 am]

BILLING CODE 7590-01-P